DEPARTMENT OF HOUSING AND URBAN DEVELOPMENT

[Docket No. FR-5828-N-33]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202) 720-8873; Energy: Mr. David Steinau, Department of Energy, Office of Property Management, OECM MA-50, 4B122, 1000 Independence Ave SW., Washington, DC 20585 (202) 287-1503; Interior: Mr. Michael Wright, Acquisition & Property Management, Department of the Interior, 3960 N. 56th Ave. #104, Hollywood, FL 33021; (443) 223-4639; Navy: Mr. Steve Matteo, Department of the Navy, Asset Management; Division, Naval Facilities Engineering Command, Washington Navy Yard, 1330 Patterson Ave. SW., Suite 1000, Washington, DC 20374; (202) 685-9426 (These are not toll-free numbers).

Dated: August 6, 2015.
Brian P. Fitzmaurice,
Director, Division of Community Assistance, Office of Special Needs Assistance Programs.

TITLE V, FEDERAL SURPLUS PROPERTY PROGRAM FEDERAL REGISTER REPORT FOR 08/14/2015

Suitable/Available Properties

Building

New York

2 Buildings

Appalachian National Scenic Trail

Hopewell Junction NY 12533

Landholding Agency: Interior

Property Number: 61201530010

Status: Excess

Directions: Tract #273-13 Messerschmitt House (910 sq. ft.); Messerschmitt Shed (64 sq. ft.)

Comments: off-site removal; 17+yrs. vacant; residential; storage; house foundation cracked; shed in poor condition; contact DOI for more information.

Texas

2 Buildings

Naval Air Station Corpus Christi

Corpus Christi TX 78419

Landholding Agency: Navy

Property Number: 77201530012

Status: Excess

Directions: Bldg. 5 (10,522 sq. ft.) & 90 (24,880 sq. ft.)

Comments: 71+ yrs. old; Officers club; library; 18+ mos. vacant; poor conditions; contact Navy for more information.

Virginia

2 Buildings

Appalachian National Scenic Trail

Salem VA 24153

Landholding Agency: Interior

Property Number: 61201530005

Status: Excess

Directions: Tract #476-21 Lyle House; Lyle Shed

Comments: off-site removal; 59+ yrs.; 900 sq. ft.; 36+ mos. vacant; poor conditions; residential; contact Interior for more information.

4 Buildings

Appalachian National Scenic Trail

Daleville VA 24083

Landholding Agency: Interior

Property Number: 61201530008

Status: Excess

Directions: Tract #473-09 Arney House (3,768 sq. ft.); Arney Cottage (550 sq. ft.); Arney Workshop (864 sq. ft.); Arney Horse shed (284 sq. ft.)

Comments: 14-58+ yrs. old; residential; 36+ mos. vacant; poor to fair conditions; contact Interior for more information.

21 Buildings

Marine Corps Base

Quantico VA

Landholding Agency: Navy

Property Number: 77201530016

Status: Unutilized

Directions: 27010A; 27013A; 27014B; 27015C; 27017D; 27026A; 27026Q; 27030A; 27061A; 27064D; 2739; 27246; 27246A; 27280B; 27553; 27018A; 27035; 27036; 2704A; 27058; 27012B—200 sq. ft. for each building listed

Comments: off-site removal only; no future agency need; latrine; very poor conditions; 3+ yrs. vacant lead/asbestos/chromium/bio-hazard waste; significant remediation needed; contact Navy for more info.

Unsuitable Properties

Building

California

Sandia National Laboratories

C9781 & CSTENT12

Livermore CA 94550

Landholding Agency: Energy

Property Number: 41201530002

Status: Excess

Directions: C9781, CSTENT12

Comments: public access denied and no alternative method to gain access without compromising national security.

Reasons: Secured Area

Hawaii

Sandia National Laboratories

K663, K663A, K666

Kekaha HI 96752

Landholding Agency: Energy

Property Number: 41201530001

Status: Excess

Directions: K663, K663A, K666

Comments: public access denied and no alternative method to gain access without compromising national security.

Reasons: Secured Area

Maryland

Fort Washington Facility

10530 Riverview Road

Fort Washington MD 20744

Landholding Agency: Navy

Property Number: 77201530014

Status: Excess

Comments: public access denied and no alternative method to gain access without compromising national security.

Reasons: Secured Area

Massachusetts

Central Wharf Rigging Shed

Salem Maritime National Historic Site

Salem MA 01970

Landholding Agency: Interior

Property Number: 61201530004

Status: Excess

Comments: structure unsound or in collapsed condition; rodent infested.

Reasons: Extensive deterioration

Missouri

Round Spring Quarter Duplex 24

Ozark National Scenic Riverways

Eminence MO 65466

Landholding Agency: Interior

Property Number: 61201530014

Status: Excess

Directions: Q-0000248A&B UC RS

Comments: contaminated with chlordane; exposure levels are significantly dangerous which would make remediation not feasible.

Reasons: Contamination

LC BS Big Spring Ranger Contac

Ozark National Scenic Riverways

Van Buren MO 63965

Landholding Agency: Interior

Property Number: 61201530016

Status: Excess

Comments: property located within floodway which has not been correct or contained; significant flood damage; extensive decay/rot which has led to bldg. being structural unsound.

Reasons: Floodway; Extensive deterioration

Big Spring Quarter Duplex 473

Ozark National Scenic Riverways

Van Buren MO 63965

Landholding Agency: Interior

Property Number: 61201530017

Status: Excess

Directions: Q-0000473A&B LC BS

Comments: contaminated with chlordane at significant levels that would make remediation not feasible.

Reasons: Contamination

Alley Spring Quarters/Duplex 5

Ozark National Scenic Riverways

Eminence MO 65466

Landholding Agency: Interior

Property Number: 61201530018

Status: Excess

Directions: Q-0000523A&B JF AS

Comments: contaminated with chlordane at significant levels that would make remediation not feasible.

Reasons: Contamination

JF AS Alley Spring Office

Ozark National Scenic Riverways

Eminence MO 65466

Landholding Agency: Interior

Property Number: 61201530019

Status: Excess

Directions: Space 508

Comments: structure in poor condition; concrete foundation has large crack; asbestos.

Reasons: Extensive deterioration

Montana

Garage (Fairview) Infra. #2626

LAT: 48.35474000

LONG: 115.0379400

Horse Hill Loop MT

Landholding Agency: Agriculture

Property Number: 15201530002

Status: Excess

Comments: documented deficiencies: much of the roof materials are missing & majority of wood frame is rotten; represents a clear threat to personal physical safety.

Reasons: Extensive deterioration

New Mexico

Sandia National Laboratories

9925C and 9925K

Albuquerque NM 87123

Landholding Agency: Energy

Property Number: 41201530003

Status: Excess

Directions: 9925C, 9925K

Comments: public access denied and no alternative method to gain access without compromising national security.

Reasons: Secured Area

New York

Building 35

Naval Submarine Base New London

Hempstead NY 11530

Landholding Agency: Navy

Property Number: 77201520034

Status: Excess

Comments: doc. deficiencies; doc. provided represents a clear threat to personal physical safety Roof & ext. in heightened disrepair & extremely poor cond.; not structurally sound; oil stains; hazardous mats.

Reasons: Extensive deterioration

3 Buildings

Stewart Air National Guard Base

700 Aviation Avenue

New Windsor NY

Landholding Agency: Navy

Property Number: 77201530015

Status: Underutilized

Directions: Buildings 801, 807, 811

Comments: public access denied and no alternative method to gain access without compromising national security.

Reasons: Secured Area

Virginia

3 Buildings

Richmond National Battlefield Park

Richmond VA 23231

Landholding Agency: Interior

Property Number: 61201530002

Status: Excess

Directions: Tract 04-109; Donley House; Donley Barn; Donley Garage

Comments: structure has extensive deterioration; structurally unsound; windows broken; roof damage; foundation in poor condition; public safety hazard.

Reasons: Extensive deterioration

Tract 01-126 Nolte House

Richmond National Battlefield Park

Richmond VA 23111

Landholding Agency: Interior

Property Number: 61201530003

Status: Excess

Comments: structural damage including the roof from falling trees; mold; asbestos.

Reasons: Extensive deterioration

Tract #421-15, Gutlands Shed

Appalachian National Scenic Trail

Front Royal VA 22630

Landholding Agency: Interior

Property Number: 61201530006

Status: Excess

Comments: structure unsound; unsafe to enter; partially collapsed; wetlands.

Reasons: Extensive deterioration

Tract #422-20 Tabler Shed

Appalachian National Scenic Trail

Front Royal VA 22630

Landholding Agency: Interior

Property Number: 61201530007

Status: Excess

Comments: structurally unsound; roof & foundation collapsed.

Reasons: Extensive deterioration

4 Buildings

Appalachian National Scenic Trail

Sugar Grove VA 24375

Landholding Agency: Interior

Property Number: 61201530009

Status: Excess

Directions: Tract# J-1534 Henegar House; Outbuilding #1; Outbuilding #2; Outbuilding #3

Comments: buildings in a state of collapse; roofs & walls already given away.

Reasons: Extensive deterioration

Tract #420-06, United Financial

Appalachian National Scenic Trail

Linden VA 22642

Landholding Agency: Interior

Property Number: 61201530011

Status: Excess

Comments: structurally unsound; unsafe to enter; in danger of collapsing; floors & roof completely collapsed.

Reasons: Extensive deterioration

Tract 01-124 Wiseman House

6066 Cold Harbor Road

Mechanicsville VA 23111

Landholding Agency: Interior

Property Number: 61201530012

Status: Excess

Comments: structurally unsound; foundation in poor condition; roof damaged; attempted moving will result in collapsing.

Reasons: Extensive deterioration

Hdqts. Backcountry

Office Trailer

Shenandoah National Park

Luray VA 22835

Landholding Agency: Interior

Property Number: 61201530015

Status: Excess

Comments: documented deficiencies: structurally unsound extremely unsafe to move; floor rotten; clear threat to physical safety

Reasons: Extensive deterioration

Land

California

46.8 Acres

Naval Base Ventura County

Port Hueneme CA

Landholding Agency: Navy

Property Number: 77201530013

Status: Underutilized

Comments: public access denied and no alternative method to gain access without compromising national security.

Reasons: Secured Area

[FR Doc. 2015-19857 Filed 8-13-15; 8:45 am]

BILLING CODE 4210-67-P